DEPARTMENT OF ENERGY

Federal Energy Regulatory Commission

[Project No. 2669-085]

Bear Swamp Power Company, LLC; Notice of Application Accepted for Filing, Soliciting Motions To Intervene and Protests, Ready for Environmental Analysis, and Soliciting Comments, Recommendations, Terms and Conditions, and Prescriptions

Take notice that the following hydroelectric license application has been filed with the Commission and is available for public inspection.

a. Type of Application: New Major License.

b. Project No.: 2669-085.

c. Date filed: March 30, 2018.

d. Applicant: Bear Swamp Power Company, LLC (Bear Swamp).

e. Name of Project: Bear Swamp Project.

f. Location: On the Deerfield River, in Berkshire and Franklin Counties, Massachusetts. There are no federal or tribal lands within the project boundary.

g. Filed Pursuant to: Federal Power Act 16 U.S.C. 791 (a)-825(r).

h. Applicant Contact: Steven P. Murphy, Director of Licensing, Brookfield Renewable Energy Group, 33 West 1st Street South, Fulton, NY 13069; Telephone at (315) 593-3118.

i. FERC Contact: Amy Chang, (202) 502-8250 or amy.chang@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2669-085.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Bear Swamp Project consists of a pumped storage development, the Bear Swamp Pumped Storage Development, and a conventional hydropower development, the Fife Brook Development, with a combined authorized capacity of 676 megawatts (MW). The project generates an average of 483,863 megawatt-hours (MWh) annually, and uses an average of 618,293 MWh annually to operate the pumped storage development.

Bear Swamp Pumped Storage Development

The existing Bear Swamp Pumped Storage Development consists of: (1) A 118-acre upper reservoir with a gross storage capacity of 8,300 acre-feet at the normal full water surface elevation of approximately 1,600 feet National Geodetic Vertical Datum of 1929 (NGVD), which is contained by existing topography and four dikes: (a) An approximately 1,300-foot-long, 155-foot-high curved, earth and rock-fill dike (North Dike); (b) an approximately 350-foot-long, 23-foot-high earth and rock-fill dike extending from the eastside of the North Dike (North Dike Extension); (c) an approximately 2,880-foot-long, 140-foot-high earth and rock-fill dike (South Dike); and (d) an approximately 750-foot-long, 50-foot-high earth and rock-fill dike (East Dike); (2) a 420-foot-long emergency spillway excavated into bedrock to the east of the North Dike Extension; (3) an 88-foot-long, 1.5- to 4-foot-wide, 4-foot-high submerged weir with three 5-foot-wide, 3-foot-high concrete stoplog gates; (4) a 40-foot-diameter concrete inlet/outlet structure located at the bottom of the upper reservoir to the west of the North Dike; (5) an approximately 1,430.5-foot-long tunnel system that conveys water from the upper reservoir to two 11-foot-diameter, steel-lined penstock sections; (6) a 227-foot-long, 79-foot-wide, 182-foot-high underground powerhouse containing two reversible Francis pump turbine-generator units with a total authorized capacity of 666 MW; (7) a lower reservoir inlet/outlet structure with four 15-foot-wide, 20-foot-high bays, each equipped with 16-foot-wide, 20.6-foot-high steel slide gates; (8) four 15-foot-wide, 26.7-foot-tall steel trashracks with 6-inch bar spacing; (9) two 13.8-kilovolt (kV) pump motor-generator lead electrical lines, one approximately 890 feet long (east lead), and one approximately 900 feet long (west lead); (10) two 13.8/230-kV step-up transformers; (11) two 230-kV above-ground transmission lines, one approximately 4,075 feet long (south line) and one approximately 3,960 feet long (north line), which terminate at a non-project switchyard owned by National Grid; and (12) appurtenant facilities.

Fife Brook Development

The existing Fife Brook Development consists of: (1) An 890-foot-long, 130-foot-high earthen rock-fill dam; (2) a 152-acre impoundment with a gross storage capacity of 6,900 acre-feet at a normal maximum water surface elevation of 870 feet NGVD, which also serves as the lower reservoir for the Bear Swamp Pumped Storage Development; (3) two 36-foot-wide, 40-foot-high steel Tainter spillway gates that are integral with the dam; (4) a concrete intake structure that is integral with the dam and includes an 11.2-foot-wide, 24-foot-tall trashrack with 3-inch bar spacing and a 15-foot-wide, 18-foot-high headgate; (5) a 10-foot-diameter, 200-foot-long steel penstock; (6) an approximately 79.25-foot-long, 44-foot-wide, 94-foot-tall concrete powerhouse containing a 10-MW Francis turbine-generator unit; (7) a 21-foot-long steel-lined draft tube; (8) an approximately 325-foot-long, 30-inch-diameter minimum flow release pipe that is gated at its intake and bifurcates into an approximately 55-foot-long, 20-inch-diameter pipe and an approximately 55-foot-long, 24-inch-diameter pipe; (9) a partially buried (860-foot-long section) and partially above-ground (7,060-foot-long section) 13.8-kV transmission line that connects the turbine-generator unit to the regional grid at a non-project substation owned by Great River Hydro, LLC; and (10) appurtenant facilities.

The Bear Swamp Pumped Storage Development uses a storage capacity of 4,600 acre-feet to produce approximately 3,028 MWh of generation over approximately 5.3 hours. The Bear Swamp Pumped Storage Development normally generates and pumps back some or all of the useable storage capacity over a 24-hour period.

The Fife Brook impoundment is the lower reservoir of the Bear Swamp Pumped Storage Development, and has an allowable drawdown of 40 feet to provide a useable storage capacity of 4,600 acre-feet to the upper reservoir of the Bear Swamp Pumped Storage Development for daily peaking operations. Releases from Fife Brook dam generally match the inflow from the Station No. 5 Development of Great River Hydro LLC's Deerfield River Project (FERC No. 2323), which discharges directly into the Fife Brook impoundment.

The existing license requires Bear Swamp to release a continuous minimum flow of 125 cubic feet per second (cfs) from the Fife Brook dam. The existing license also requires Bear Swamp to provide 106 scheduled annual releases of 700 cfs for whitewater recreation downstream of the Fife Brook dam from April 1 through October 31. Bear Swamp proposes to continue the current licensed mode of operation, including the minimum flow and whitewater recreation releases. Bear Swamp proposes to increase the volume of the whitewater flow releases from 700 cfs to 800 cfs.

Bear Swamp proposes to continue to operate and maintain the existing licensed project recreation facilities. Bear Swamp also proposes several new measures to enhance recreational resources: (1) Improve the overflow parking area at the Fife Brook Fishing and Boating Access Area; (2) construct a new portage trail that begins downstream from the Showtime whitewater feature and extends upstream to the existing vehicle turnaround at the Dunbar Brook Picnic Area; (3) provide additional seasonal restroom facilities at the Zoar Picnic Area; (4) install a handrail on the stairs at the Fife Brook Fishing and Boating Access Area; (5) construct a stall-type changing facility at the Zoar Picnic Area; and (6) install additional signage to educate recreationists on safety and the Deerfield River flow regime. Finally, Bear Swamp proposes to continue to include 201 acres of river corridor lands downstream from the Fife Brook Development in the project boundary for the protection of wildlife and riverine habitat.

m. A copy of the application is available for review at the Commission in the Public Reference Room or may be viewed on the Commission's website at http://www.ferc.gov using the “eLibrary” link. Enter the docket number excluding the last three digits in the docket number field to access the document. For assistance, contact FERC Online Support. Copies are also available for inspection and reproduction at the Rowe Town Library, 318 Zoar Road, Rowe, Massachusetts 01367; and the North Adams Public Library, 74 Church Street, North Adams, Massachusetts 01247.

n. Anyone may submit comments, a protest, or a motion to intervene in accordance with the requirements of the Commission's Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. Procedural Schedule:

The application will be processed according to the following revised schedule. Revisions to the schedule may be made as appropriate.

Milestone | Target date
Filing of interventions, protests, comments, recommendations, preliminary terms and conditions, and preliminary fishway prescriptions | April 2019.
Commission issues Draft Environmental Assessment | October 2019.
Comments on Draft Environmental Assessment | November 2019.
Modified terms and conditions | January 2020.
Commission issues Final Environmental Assessment | April 2020.

Final amendments to the application must be filed with the Commission no later than 30 days from the issuance date of this notice.

p. A license applicant must file no later than 60 days following the date of issuance of this notice: (1) A copy of the water quality certification; (2) a copy of the request for certification, including proof of the date on which the certifying agency received the request; or (3) evidence of waiver of water quality certification.

Dated: January 30, 2019.
Kimberly D. Bose,
Secretary.

[FR Doc. 2019-01150 Filed 2-5-19; 8:45 am]

BILLING CODE 6717-01-P